DEPARTMENT OF THE TREASURY

Office of Foreign Assets Control

Designation of Five Individuals and Two Entities Pursuant to Executive Order 13566

AGENCY: Office of Foreign Assets Control, Treasury.

ACTION: Notice.

SUMMARY: The Treasury Department's Office of Foreign Assets Control (“OFAC”) is publishing the names of five individuals and two entities newly-designated as persons whose property and interests in property are blocked pursuant to Executive Order 13566 of February 25, 2011, “Blocking Property and Prohibiting Certain Transactions Related to Libya.”

DATES: The designation by the Director of OFAC of the five individuals and two entities identified in this notice, pursuant to Executive Order 13566 of February 25, 2011, is effective April 8, 2011.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (http://www.treas.gov/ofac) or via facsimile through a 24-hour fax-on-demand service, Tel.: 202/622-0077.

Background

On February 25, 2011, the President issued Executive Order 13566, “Blocking Property and Prohibiting Certain Transactions Related to Libya” (the “Order”) pursuant to, inter alia, the International Emergency Economic Powers Act (50 U.S.C. 1701-06).

Section 1 of the Order blocks, with certain exceptions, all property and interests in property that are in the United States, that come within the United States, or that are or come within the possession or control of any United States person, of persons listed in the Annex to the Order and of persons determined by the Secretary of the Treasury, in consultation with Secretary of State, to meet any of the criteria set forth in the Order.

The Annex to the Order listed five individuals whose property and interests in property are blocked pursuant to the Order.

On April 8, 2011, the Director of OFAC, in consultation with the Secretary of State, designated for sanctions, pursuant to one or more of the criteria set forth in subparagraphs (b)(i) through (b)(vi) of Section 1 of the Order, five individuals and two entities whose property and interests in property are blocked therefore are blocked. The listing for these individuals and entities is as follows:

Individuals

1. AL BAGHDADI, Ali Al-Mahmoudi (a.k.a. MAHMUDI, Baghdadi); DOB 1950; POB Al Jamil, Libya; Prime Minister (individual) [LIBYA2].

2. GHANEM, Shukri Mohammed (a.k.a. GHANEM, Shokri); DOB 9 Oct 1942; POB Tripoli, Libya; Oil Minister; Chairman of the National Oil Company of Libya (individual) [LIBYA2].

3. KHALED, Tohami (a.k.a. AL-TUHAMI, Khaled; a.k.a. KHALED, Al-Tohamy; a.k.a. KHALED, al-Tuhami); DOB 1946; POB Genzur, Libya; General; Director of the Internal Security Office (individual) [LIBYA2].

4. SALEH, Bachir (a.k.a. BASHIR, Bashir Saleh; a.k.a. SALEH, Bashir); DOB 1946; POB Traghen, Libya; Head of Cabinet of Leader Muammar Gaddafi; Chief of Staff; Chairman of Libya Africa Investment Portfolio (individual) [LIBYA2].

5. ZLITNI, Abdulhafid (a.k.a. AL-ZULAYTINI, Abd-Al-Hafid Mahmud; a.k.a. ZLEITNI, Abdel-Hafez; a.k.a. ZLITNI, Abdelhafidh; a.k.a. ZLITNI, Abdul Hafid; a.k.a. ZLITNI, Abdul Hafiz; a.k.a. ZLITNI, Abdulhafid Mahmoud); DOB 1938; POB Tripoli, Libya; Secretary of the General People's Committee for Finance and Planning; Secretary of the General People's Committee for Planning and Finance; Finance Minister; Director and Deputy Chairman of the Libyan Investment Authority (individual) [LIBYA2].

Entities

1. GADDAFI INTERNATIONAL CHARITY AND DEVELOPMENT FOUNDATION (a.k.a. GADDAFI INTERNATIONAL FOUNDATION FOR CHARITY ORGANISATIONS), Hay Elandadlus—Jian St, P.O. Box 1101, Tripoli, Libya; 22, Rue Henri-Mussard, Geneva 1208, Switzerland; E-mail Address info@gicdf.org; Registration ID CH-660.0.699.004-7 (Switzerland); Web site http://www.gicdf.org; Telephone No. (218) (0)214778301; Telephone No. (022) 7363030; Fax No. (218) (0)214778766; Fax No. (022) 7363196 [LIBYA2].

2. WAATASEMU CHARITY ASSOCIATION, Omar Almukhtar Street, Tripoli, Libya; E-mail Address info@waatasemu.org; Web site http://waatasemu.org.ly; Telephone No. (218) 21 273343326; Fax No. (218) 21 253343328 [LIBYA2].

Dated: April 8, 2011.
Adam J. Szubin,
Director, Office of Foreign Assets Control.

[FR Doc. 2011-9276 Filed 4-15-11; 8:45 am]

BILLING CODE 4811-45-P